DEPARTMENT OF COMMERCE

Foreign-Trade Zones Board

[Docket 36-2004]

Foreign-Trade Zone 243—Victorville, CA; Application for Subzone; Black & Decker Corporation (Power Tools, Lawn and Garden Tools, and Home Products Distribution); Rialto, CA

An application has been submitted to the Foreign-Trade Zones Board (the Board) by the Southern California Logistics Airport Authority, grantee of FTZ 243, requesting special-purpose subzone status for the tools and home products warehousing/distribution facility of Black & Decker Corporation, in Rialto, California. The facility is located adjacent to the Los Angeles/Long Beach U.S. Customs port of entry. The application was submitted pursuant to the provisions of the Foreign-Trade Zones Act, as amended (19 U.S.C. 81a-81u), and the regulations of the Board (15 CFR part 400). It was formally filed on August 19, 2004.

The Black & Decker facility (1 building, 543,000 sq. ft., 28.64 acres) is located at 1590 N. Tamarind Avenue within the I-210 Industrial Park in Rialto, California. The facility is currently under construction and is expected to be completed in early 2005. The facility (115 employees) is used for order fulfillment, repackaging, re-labeling, warehousing and distribution of hand-held tools and accessories; home products (including vacuums, flashlights and wet scrubbers); security hardware; plumbing products (including kitchen and bath faucets and accessories); and, fastening and assembly systems (including stud welding, specialty screws and related products and accessories); activities which Black & Decker is proposing to perform under FTZ procedures.

Zone procedures would exempt Black & Decker from Customs duty payments on products that are re-exported. Currently, some 3-5 percent of the products are re-exported. On its domestic sales, the company would be able to defer duty payments until merchandise is shipped from the plant and entered for consumption. Some 80 percent of the products are sourced abroad (average weighted duty rate—1.6%). FTZ designation would further allow Black & Decker to utilize certain Customs procedures resulting in increased efficiencies and cost reductions for its logistics and distribution operations. The request indicates that the savings from FTZ procedures would help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave. NW., Washington, DC 20230.

The closing period for their receipt is October 25, 2004. Rebuttal comments in response to material submitted during the foregoing period may be submitted during the subsequent 15-day period (to November 9, 2004).

A copy of the application and accompanying exhibits will be available for public inspection at the Office of the Foreign-Trade Zones Board's Executive Secretary at address Number 1 listed above, and at the U.S. Department of Commerce Export Assistance Center, 2940 Inland Empire Blvd., Suite 121, Ontario, CA 91764.

Dated: August 19, 2004.
Dennis Puccinelli,
Executive Secretary.

[FR Doc. 04-19531 Filed 8-25-04; 8:45 am]

BILLING CODE 3510-DS-P